DEPARTMENT OF DEFENSE

Department of the Army

Notice of Availability of the Final Environmental Impact Statement (FEIS) for the Maneuver Center of Excellence (MCOE) Actions at Fort Benning, GA

AGENCY: Department of the Army, DoD.

ACTION: Notice of Availability (NOA).

SUMMARY: The Department of the Army announces the availability of the MCOE FEIS, which evaluates the potential environmental and socioeconomic impacts associated with the MCOE activities at Fort Benning. The FEIS covers the construction, operation, facilities maintenance, personnel increases, and training activities associated with the proposed MCOE actions, as well as increased training throughput due to Grow the Army missions at Fort Benning.

DATES: The waiting period for the MCOE FEIS will end 30 days after publication of a notice of availability in the Federal Register by the Environmental Protection Agency.

ADDRESSES: To obtain a copy of the EElS, contact Mr. John Brent, Fort Benning Directorate of Public Works, Environmental Management Division, 6650 Meloy Hall, Building 6, Room 308, Fort Benning, GA 31905 or e-mail at: john.brent@us.army.mil.

FOR FURTHER INFORMATION CONTACT: Ms. Bridgett Siter at (706) 545-6169 or Mr. Anthony O'Bryant at (706) 545-4591 in the Fort Benning Public Affairs Office.

SUPPLEMENTARY INFORMATION: The MCOE FEIS covers the construction, operation, facilities maintenance, personnel increases, and training activities associated with the proposed MCOE actions at Fort Benning. The Proposed Action includes construction, operation, and maintenance of facilities and training areas in support of the Armor School and Infantry training mission.

In 2007, the Army completed its 2005 Base Realignment and Closure (BRAC)/Transformation Actions FEIS and subsequent Record of Decision (ROD) for Fort Benning. Since the announcement of the BRAC/Transformation ElS ROD in 2007, some projects that were reasonably foreseeable in Fiscal Year (FY) 14 have now been funded, programmed and planned, and new projects have been identified. In addition, some of the projects, originally identified for implementation in the FY08 to FY13 timeframe, have changed in location, size, and timing and these changes are substantial enough to require a re-evaluation. The MCOE FEIS analyzes these changes.

The MCOE FEIS also evaluates new facilities and training areas to support the increased training requirements of military personnel and students associated with Grow the Army missions at Fort Benning. The permanent increase in the Army end strength, which is being implemented in accordance with Congressional authorizations, will allow the Army to realign its force structure to a force that is capable of meeting national security and defense objectives. This action would bring the Fort Benning population (excluding dependents) to a total of 35,837 military, civilian, and contractor personnel, as well as 16,624 military students (daily average).

Alternatives analyzed in the MCOE FEIS are: (I) Alternative A (the Army's Preferred Alternative) which consists of 43 projects and entails cantonment area impacts, and maneuver and range development impacts to 10,045 acres total; (2) Alternative B which consists of 48 projects in the cantonment, maneuver and range areas, and impacts 24,596 acres total; and (3) the No Action Alternative under which FY09 through FY13 BRAC/Transformation projects identified in the BRAC/Transformation EIS are evaluated. Because the BRAC/Transformation actions have been approved for implementation, regardless of the decision taken under the MCOE proposed action, they are included in the No Action Alternative.

The FEIS analyses indicate that the implementation of the proposed action would have significant impacts on cultural resources, soils, water resources, special status species (particularly the Red-cockaded Woodpecker (RCW), relict trillium, and gopher tortoise), and Unique Ecological Areas (UEA). The action could potentially cause compatibility issues for lands adjacent to the ranges due to noise. Aesthetic and visual resources would be affected, but insignificantly. In terms of socioeconomics, development would take place and population increases would result in economic gains under both action alternatives, but there could be negative impacts if the local market cannot support this increase. On-post traffic congestion and Main Gate build-up during peak hours are anticipated, but these impacts would be minimized once road expansions and new access points are completed. There would be short-term construction emissions increases, but they would not significantly affect regional air quality in the long term. Noise contours associated with training would grow both on- and off-post, increasing the potential for annoyance and complaints in adjacent communities. Utilities, safety, and hazardous and toxic materials and waste would not be significantly impacted. Through formal consultation with the U.S. Fish and Wildlife Service, minimization measures, including a Reasonable and Prudent Alternative (RPA), were developed to minimize the impacts to RCW expressed in a Jeopardy Biological Opinion. The RPA also includes a requirement that field training associated with the Scout Leaders Course (Army Reconnaissance Course) and MCOE heavy mechanized training courses be moved from the Southern Maneuver Training Area to an off-post site yet to be determined. This relocation would take place 5 years from the start of the Scout Leaders Course and would be the subject of further NEPA analysis.

All the alternatives would have significant, adverse noise impacts due to expansion of noise levels greater than 75 dBA (Zone Ill) into approximately 96 family housing buildings adjacent to Dixie Road. The family housing on post has been privatized via the Residential Communities Initiative (RCI). Fort Benning is working with the RCI program representatives to determine the most feasible mitigation options to attenuate noise, which will be analyzed in a separate NEPA document when more information and options are identified.

For all alternatives, significant adverse impacts to land use, biological resources, water resources, and soils would be reduced with the implementation of proposed mitigation measures. Significant adverse impacts to special status species (RCW), vegetation, and UEA would be reduced through the implementation of the proposed mitigation measures and the RPA, but residual impacts would still be potentially significant as a result of the magnitude of the impacts, loss of habitat, and operation and maintenance activities.

An electronic version of the FEIS can be viewed or downloaded from the following Web site: http://www.hqda.army.mil/acsim/brac/nepa_eis_docs.htm.

Dated: June 25, 2009.
Addison D. Davis, IV.,
Deputy Assistant Secretary of the Army (Environment, Safety and Occupational Health).

[FR Doc. E9-15601 Filed 7-1-09; 8:45 am]

BILLING CODE 3710-08-M